DEPARTMENT OF TRANSPORTATION

Federal Transit Administration

Environmental Impact Statement for the Denton County, TX, Transportation Authority Commuter Rail Project

AGENCY: Federal Transit Administration, DOT.

ACTION: Notice of intent to prepare an Environmental Impact Statement (EIS).

SUMMARY: The Federal Transit Administration (FTA) and the Denton County Transportation Authority (DCTA) issue this notice to advise interested agencies and the public of their intent to prepare an Environmental Impact Statement (EIS) in accordance with the regulations implementing the National Environmental Policy Act (NEPA) for transportation improvements in Denton and Dallas Counties, Texas. Transit improvements will be considered generally between Denton and Carrollton along the former Missouri Kansas Texas (MKT) Railroad line that parallels I-35E, as recommended by the DCTA Board of Directors in May 2005 following a study of the transportation needs in the corridor and an analysis of alternative solutions. The relationships of concurrent projects such as the I-35E Environmental Analysis (EA) being conducted by the Texas Department of Transportation (TxDOT), the Northwest Corridor Light Rail Transit project being advanced by the Dallas Area Rapid Transit (DART), and others, will also be considered in the EIS process.

Transportation improvements are needed to meet current and future travel demands and to upgrade the transportation facilities in the corridor. The EIS will evaluate the recommended regional rail alignment, the No-Build Alternative, a Transportation Systems Management (TSM) alternative, and any additional reasonable alternatives that emerge from scoping.

DATES: Comment Due Date: Written or electronic comments on the scope of the EIS, including the purpose and need for transportation action in the corridor, and alternatives and impacts to be considered, should be sent to the project team's public involvement coordinator (see ADDRESSES below) by March 31, 2006. Scoping Meetings: Public scoping meetings will be held on February 28, 2006, in Denton, TX, and March 2,20076, in Lewisville, TX, from 6 p.m. to 8 p.m. at the locations shown in ADDRESSES below.

ADDRESSES: Written or electronic comments on the EIS scope should be sent to: Judy Meyer, Public Involvement Lead, c/o Public Information Associates, P.O. Box 570, Allen, Texas 75013; Phone: 888-724-5328; Fax: 214-495-0479; E-mail: Judy.Meyer@dfwair.net.

Scoping meetings will be held at the following locations:

Tuesday, February 28, 2006

6-8 p.m., Martin Luther King Recreation Center, 1300 Wilson St., Denton, TX 76205.

Thursday, March 2, 2006

6-8 p.m., Lewisville Senior Center, 1950 S. Valley Parkway, Lewisville, TX 75067.

Information on the time and place of the public scoping meetings will be provided in the local newspapers and other media outlets. The scoping information packet is available on the Internet at http://www.RailDCTA.net. The packet is also available in hardcopy form by contacting Judy Meyer as indicated above.

FOR FURTHER INFORMATION CONTACT: John Sweek, Community Planner, Federal Transit Administration, Region VI; (817) 978-0550.

SUPPLEMENTARY INFORMATION:

I. Scoping of the EIS

The FTA, in cooperation with the DCTA, will prepare an EIS for transportation improvements along the MKT Railroad line that parallels I-35E between Denton and Carrollton. Interested individuals, organizations, businesses and Federal, state and local agencies are invited to participate in determining the scope of the EIS, including the purpose and need for transportation action in the corridor, alternative alignments, alternative station locations, impacts to be evaluate, and environmental or community resources to be protected. Specific suggestions on additional alternatives to be examined and issues to be addressed are welcome and will be considered in the development in the final study scope. Scoping comments may be made orally or in writing not later than March 31, 2006. See DATES and ADDRESSES above. Additional information on the EIS process, the purpose and need, alternatives, and anticipated impact issues are available from DCTA. See DATES and ADDRESSES above.

The EIS will evaluate transit improvement alternatives, the No-Action alternative, and a Transportation System Management (TSM) alternative based on the Purpose and Need statement developed for the corridor during the previous Alternatives Analysis (AA). The AA document is available for public review on the Internet at http://www.RailDCTA.net or by contacting the project office at the address in ADDRESSES above. The AA document will also be available for review at the public scoping meetings. Alternatives will be reviewed and analyzed through an extensive agency and community outreach process. The EIS evaluation will result in a decision about which transportation projects, if any, will be built to address the states purpose and need for transportation action in the corridor.

II. Description of Study Area and Project Need

The study area for the EIS evaluation is the travelshed that parallels I-35E between Denton and Carrollton. The purpose of the proposed action is to decrease congestion, and improve safety, access, and mobility. More details are available in the scoping information packet. See ADDRESSES above.

III. Alternatives To Be Considered

The alternatives evaluated in the EIS will include, but not limited to, the recommended Locally Preferred Alternative (LPA) developed in the AA, and approved by the DCTA Board of Directors in May 2005. This alternative consisted of Regional Rail (also called Commuter Rail) on the MKT alignment. Feeder bus improvements also were included as part of the recommended LPA. In addition, an existing bicycle/hiking trail on the northern portion of the corridor would be relocated within the railroad right-of-way as a ‘rails-with-trails’ facility. Five stations were proposed on the alignment during the AA: downtown Denton; south Denton; north Lewisville; downtown Lewisville; and south Lewisville; with a connection to the DART light rail station at Belt Line in Carrollton.

The EIS will again examine other reasonable alternatives emerge from scoping. These may include alternatives that were screened out during the AA but that may now be available due to recent demographic trends, anticipated funding levels, or technological advances. The EIS will also evaluate the appropriate end-of-line and associated facilities and connections into the DART system in Carrollton and in downtown Denton. As part of the transit evaluation, station locations, railyard facilities, and other ancillary facilities such as stormwater management systems will be studied and identified as appropriate.

The EIS will also fully evaluate the No-Action Alternative and a TSM alternative. Other alternatives may be added as a result of scoping and agency coordination efforts.

IV. Probable Effects/Potential Impacts for Analysis

The EIS evaluation will analyze social, economic, and environmental impacts of the alternatives. Major issues to be evaluated include air quality, noise and vibration, aesthetics, community cohesion impacts, and possible disruption of neighborhoods, businesses and commercial activities. The impact areas and level of detail addressed in the EIS will be consistent with the requirements of SAFETEA-LU Section 6002 and the FTA/Federal Highway Administration environmental regulation (Environmental Impact and Related Procedures, 23 CFR part 771 and 40 CFR parts 1500-1508) and other environmental and related regulations. Among other factors, the EIS will evaluate:

• Transportation service including future corridor capacity;

• Transit ridership and costs;

• Traffic movements and changes and associated impacts to local facilities;

• Community impacts such as land use, displacements, noise and vibration, neighborhood compatibility and aesthetics; and

• Resource impacts including impacts to historic and archaeological resources, parklands, cultural resource impacts, environmental justice, and natural resource impacts including air quality, wetlands, water quality, and wildlife.

The proposed impact assessment and evaluation will take into account both positive and negative impacts, direct and indirect impacts, short-term (during the construction period) and long-terms impacts, and site-specific as well as corridor-wide impacts. Mitigation measures will be identified for any adverse environmental impacts that are identified.

Other potential impacts may be added as a result of scoping and agency coordination efforts.

Issued on: March 7, 2006.
Robert C. Patrick,
Regional Administrator, Federal Transit Administration, Fort Worth, Texas.

[FR Doc. 06-2337 Filed 3-9-06; 8:45 am]

BILLING CODE 4910-57-M